NATIONAL SCIENCE FOUNDATION

Advisory Committee for Biological Sciences; Notice of Meeting

SUMMARY: In accordance with the Federal Advisory Committee Act (Pub., L., 92-463, as amended), the National Science Foundation announces the following meeting:

Name: Biological Sciences Advisory Committee (#1110).

DATES:

September 10, 2014, 8:30 a.m.-5 p.m.

September 11, 2014, 8:30 a.m.-2 p.m.

ADDRESSES: National Science Foundation, 4201 Wilson Blvd., Room 1235, Arlington, VA 22230.

FOR FURTHER INFORMATION CONTACT: Charles Liarakos, National Science Foundation, 4201 Wilson Boulevard, Room 605, Arlington, VA 22230; Tel No.: (703) 292-8400.

SUPPLEMENTARY INFORMATION: All visitors must contact the Directorate for Biological Sciences [call (703) 292-8400 or send an email message to jwoodruf@nsf.gov] at least 24 hours prior to the meeting to arrange for a visitor's badge. All visitors must report to the NSF visitor desk located in the lobby at the N. 9th and N. Stuart Streets entrance on the day of the meeting to receive a visitor's badge.

Type of Meeting: Open.

Purpose of Meeting: The Advisory Committee for the Directorate for Biological Sciences (BIO) provides advice, recommendations, and oversight concerning major program emphases, directions, and goals for the research-related activities of the divisions that make up BIO.

Agenda: Agenda items will include graduate education in biology, broadening participation, the Committee of Visitors reports for the Divisions of Biological Infrastructure, Integrative Organismal Systems and Molecular and Cellular Biosciences, and other matters relevant to the Directorate for Biological Sciences.

Dated: August 13, 2014.
Crystal Robinson,
Acting Committee Management Officer.

[FR Doc. 2014-19545 Filed 8-19-14; 8:45 am]

BILLING CODE 7555-01-M